DEPARTMENT OF HEALTH AND HUMAN SERVICES

Office of Inspector General

Agency Information Collection Activities (OIG-319-FN)

AGENCY: Office of Inspector General (OIG), HHS.

ACTION: Notice.

SUMMARY: In compliance with the requirements of section 3506(c)(2)(A) of the Paperwork Reduction Act of 1995, this notice sets forth the Office of Inspector General's summary of collection activities with regard to State Medicaid Fraud Control Units' Recertification Application and Annual Reports, as required by 42 CFR 1007.15 and 1007.17 of the OIG regulations. A proposed notice of these information collection activities was published for public comment in the March 26, 2003 edition of the Federal Register (68 FR 14668). No public comments were received in response to that proposed collection activities notice.

SUPPLEMENTARY INFORMATION:

Type of Information Collection Request: Reinstatement of an expired collection.

Title of Information Collection: State Medicaid Fraud Control Units' Recertification Application and Annual Report as required by 42 CFR 1007.15 and 1007.17. (Previously approved by the Office of Management and Budget under control number 0990-0162.)

Use: The information contained in the annual reports and recertification application is required for certification and yearly recertification by the OIG to ensure that federal matching funds are only expended for allowable costs, and to determine if a State unit needs technical assistance.

Frequency: Annually.

Affected Public: State government.

Annual Number of Respondents: 48.

Total Annual Responses: 48.

Average Burden Per Response: 32 hours.

Total Annual Hours: 2,744 hours.

FOR FURTHER INFORMATION CONTACT: To obtain copies of the supporting statement and any related forms for the paperwork collections referenced above, e-mail your request, including your address and phone number, to John Bettac, Office of Investigations (Jbettac@oig.hhs.gov), or call (202) 619-3557. Written comments and recommendations for the proposed information collections must be mailed within 30 days of this notice directly to the Office of Management and Budget desk officer: OMB Human Resources and Housing Branch; Attention: Brenda Aguilar (OMB # 0990-0162); 725 17th Street, NW., New Executive Office Building; Room 10235; Washington, DC 20503.

Dated: January 5, 2004.
Brian P. Carman,
OIG Chief Information Officer.

[FR Doc. 04-746 Filed 1-13-04; 8:45 am]

BILLING CODE 4152-01-P